DEPARTMENT OF THE INTERIOR

Minerals Management Service

30 CFR Parts 250 and 251

RIN 1010-AC81

Oil and Gas and Sulphur Operations in the Outer Continental Shelf; Geological and Geophysical (G&G) Explorations of the Outer Continental Shelf—Proprietary Terms and Data Disclosure

AGENCY: Minerals Management Service (MMS), Interior.

ACTION: Notice of proposed rulemaking.

SUMMARY: This rule proposes to modify the start date for the 50-year proprietary term for geophysical data, and the start date for the 25-year proprietary term for geophysical information that MMS acquires pursuant to a permit issued under 30 CFR part 251. We propose to change the start of the proprietary terms from the date the data and information are submitted to the date the permit is issued. Although the lengths of the proprietary terms do not change, the net result is the total length of time that geophysical data and information, selected and retained by MMS, are held by MMS before public release will be less than under current practice.

In addition, the rule would clarify that geological data and information, acquired under part 251 and submitted to MMS under part 250, retain proprietary terms under part 251. The rule also expands language that allows selective inspection of G&G data and information that MMS acquires under parts 250 and 251, and uses for specified purposes, by only those persons with a direct interest in related MMS decisions and issues.

DATES: We will consider all comments received by September 16, 2002. We will begin reviewing comments then and may not fully consider comments we receive after September 16, 2002.

ADDRESSES: Mail or hand-carry comments to the Department of the Interior; Minerals Management Service; Mail Stop 4024; 381 Elden Street; Herndon, Virginia 20170-4817; Attention: Rules Processing Team. If you wish to e-mail comments, the address is: rules.comments@mms.gov. Reference AC-81 G&G in your subject line. Include your name and return address in your message and mark your message for return receipt.

FOR FURTHER INFORMATION CONTACT: George Dellagiarino or David Zinzer at (703) 787-1628.

SUPPLEMENTARY INFORMATION: This proposed rule would modify the start date for the proprietary terms for geophysical permit data and information, acquired under part 251, by starting the terms with the date MMS issues the permit. (The proposed rule does not affect the proprietary terms for geophysical data and information related to a deep stratigraphic test.) Currently, the proprietary terms begin when the data and information are submitted to MMS. This change would conform with geological permit data and information whose proprietary terms begin with the date MMS issues the permit. This modification is necessary because MMS may select geophysical data and information numerous times from a single permit.

Current regulations establish a separate release date for each submission of geophysical data or information because the start of the proprietary term occurs with each submission to MMS. This results in complicated and burdensome recordkeeping for submitted data or information over a period of 50 or 25 years (respectively) for each submission. When it is time to release data or information to the public, the dates of submission for the data or information are not readily ascertainable. It also presents confusion to our customers with regard to the separate public release dates applicable to different parts of data and information obtained under a single permit. Beginning the proprietary term at the time that a permit is issued for all submissions of data or information minimizes such confusion, and aids MMS in managing the release of data and information once the proprietary term expires.

Furthermore, as progressively more data and information are submitted electronically, the specific “date of submission” becomes even more difficult to ascertain. Because we will be acquiring these data and information from a consortium on a continuous basis, it will become difficult if not impossible to identify the start date, based on a date of submission, for the proprietary terms. The only readily identifiable date available is the date the permit was issued.

To relieve a substantial administrative recordkeeping burden and to exercise proper management of the release of geophysical data and information, we propose to make this change retroactive to the original establishment date of the regulations at 30 CFR part 251, June 11, 1976.

The original 1976 proprietary term for geophysical data acquired under a permit was 10 years after issuance of the permit. For geophysical information acquired under a permit, the proprietary term was 10 years after submission to the (then U.S. Geological Survey) Supervisor. Effective March 17, 1988, the proprietary term for geophysical data was changed to 50 years after the date on which data are submitted, and for geophysical information the proprietary term was changed to 25 years after the date the information is submitted. These are the current terms for geophysical data and information.

Because these changes were made retroactive to June 1976, companies submitting data and information between June 1976 and March 1988 enjoy the benefit of the proprietary terms of their data and information submitted during that timeframe being extended to 50 years and 25 years, respectively.

The 1988 extension of proprietary terms recognized the longer periods that geophysical data and information remain of some commercial value. MMS believes that the proposed modifications still would adequately protect geophysical data and information because the data and information are protected for 50 and 25 years, respectively, after issuance of the permit.

In addition, we propose to clarify that geological data and information, originally acquired under a permit pursuant to part 251 and later submitted to MMS by a lessee under parts 203 or 250, retain the proprietary terms under part 251 for geological permit data and information, namely, 10 years after MMS issues the permit.

To allow parties who are directly affected by our decisions regarding units, reservoirs, operations, environmental protection, field determinations, and royalty relief to better understand the basis of our decisionmaking process and any related issues, we are also proposing to selectively allow inspection of germane G&G permit and lease data and information that MMS uses to:

(1) Make unitization determinations on two or more leases;

(2) Make competitive reservoir determinations;

(3) Ensure proper plans of development for competitive reservoirs;

(4) Promote operational safety;

(5) Protect the environment;

(6) Make field determinations; or

(7) Determine eligibility for royalty relief.

The disclosure would be restricted to limited inspection of these data and information by those persons with a direct interest in related MMS decisions and issues. Copying, direct access, or other forms of retention by the interested persons will not be allowed. These inspections will occur only at meetings between MMS and the interested persons involved in the above cases.

Procedural Matters

Public Comments Procedure

Our practice is to make comments, including names and addresses of respondents, available for public review during regular business hours. Individual respondents may request that we withhold their home address from the rulemaking record, which we will honor to the extent allowable by law. There may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Regulatory Planning and Review (Executive Order 12866)

This document is not a significant rule and is not subject to review by the Office of Management and Budget (OMB) under Executive Order 12866.

(1) This rule will not have an effect of $100 million or more on the economy. It will not adversely affect in a material way the economy, productivity, competition, jobs, the environment, public health or safety, or State, local, or tribal governments or communities. MMS takes all actions that result from the change in the start dates of the proprietary terms, with no costs to outside parties. Similarly, there would be no costs associated to industry concerning our disclosing permitted geophysical information for ensuring proper development.

(2) This rule will not create a serious inconsistency or otherwise interfere with an action taken or planned by another agency. There are no other Federal agencies involved in this process, as it relates to release or disclosure of geophysical data and information.

(3) This rule does not alter the budgetary effects or entitlements, grants, user fees, or loan programs or rights or obligations of their recipients. This rule has no effect on these programs or such rights.

(4) This rule changes the basis for the start of proprietary terms for geophysical data and geophysical information acquired under a permit, retroactive to June 11, 1976. This rule does not raise novel legal or policy issues, although we recognize that this change in the start date may be controversial. Certain geophysical companies, if still in existence, whose data and information being held by us may be released earlier than under current regulations, may have concerns about the change. However, any data to be released will be at least 50 years old, and any information to be released will be at least 25 years old. As previously stated, the intent of this rule is to alleviate administrative recordkeeping burdens and to ensure proper development of fields or reservoirs.

Regulatory Flexibility (RF) Act

The Department certifies that this document will not have a significant economic effect on a substantial number of small entities under the RF Act (5 U.S.C. 601 et seq.). This revised rule would modify the start of the proprietary terms for geophysical data and information and add language to ensure proper development of fields or reservoirs under 30 CFR 251.14 and 250.196. The only entities affected by this rule change are certain geophysical companies, if still in existence, whose data and information being held by us may be released earlier than under current regulations. The Small Business Administration classifies geophysical surveying and mapping services companies under the North American Industry Classification System Code 541360. These changes will have no economic impact on these constituents, as MMS takes all of the actions with no cost to our customers.

Your comments are important. The Small Business and Agriculture Regulatory Enforcement Ombudsman and 10 Regional Fairness Boards were established to receive comments from small businesses about Federal agency enforcement actions. The Ombudsman will annually evaluate the enforcement activities and rate each agency's responsiveness to small business. If you wish to comment on the enforcement actions of MMS, call toll-free (888) 734-3247. You may comment to the Small Business Administration without fear of retaliation. Disciplinary action for retaliation by an MMS employee may include suspension or termination from employment with the Department of the Interior.

Small Business Regulatory Enforcement Fairness Act (SBREFA)

This rule is not a major rule under the SBREFA, 5 U.S.C. 804(2). This rule:

(1) Does not have an annual effect on the economy of $100 million or more. This rule would modify the proprietary terms for geophysical data and information for consistency with those for geological data and information and allow for possible limited disclosure of certain permitted information for assuring proper development of a field or competitive reservoir. This rule will not impose any costs on industry.

(2) Will not cause a major increase in costs or prices for consumers, individual industries, Federal, State, or local government agencies, or geographic areas. The modification to the proprietary term and change in language regarding disclosure of information for proper development will not cause a burden in terms of finance or time for any outside parties.

(3) Does not have significant adverse effects on competition, employment, investment, productivity, innovation, ability of United States-based enterprises to compete with foreign-based enterprises as the information to be released will be 25 years old, and any data to be released will be 50 years old. There are no United States- or foreign-based enterprises involved in this rule.

Paperwork Reduction Act (PRA) of 1995

A form OMB-83-I submission to OMB is not required. The proposed rule concerns actions by MMS and does not contain new requirements subject to the PRA. Nor does the proposed rule change the information collection requirements OMB approved for 30 CFR part 250, subpart A (OMB control number 1010-0114, current expiration date of September 30, 2002), or in 30 CFR part 251 (OMB control number 1010-0048, current expiration date of May 31, 2003).

Federalism (Executive Order 13132)

According to Executive Order 13132, this rule does not have Federalism implications. This rule does not substantially and directly affect the relationship between the Federal and State Governments. The proposed modification to the proprietary terms affects only our own methods of doing business, and the added language regarding data disclosure would only be of interest to industry. There will be no financial costs to States.

Takings Implications Assessment (Executive Order 12630)

According to Executive Order 12630, the rule does not have significant Takings implications. A Takings Implication Assessment is not required because the rule would not take away or restrict an operator's right to collect data and information and would have us maintain that data and information as proprietary under the terms of the permit.

Energy Supply, Distribution, or Use (Executive Order 13211)

This rule is not a significant rule and is not subject to review by OMB under Executive Order 12866. The rule does not have a significant effect on energy supply, distribution, or use because the rule's purpose is to modify the start of the proprietary terms for geophysical data and information acquired from industry and released by MMS, and to modify language allowing for selected disclosure by MMS of G&G data and information used by MMS for specified purposes.

Civil Justice Reform (Executive Order 12988)

According to Executive Order 12988, the Office of the Solicitor has determined that the rule does not unduly burden the judicial system and meets the requirements of sections 3(a) and 3(b)(2) of the Order. The rule would have little effect on the judicial system, because it is an administrative action to modify the proprietary terms and support the MMS decisionmaking process for proper development.

National Environment Policy Act (NEPA)

We have analyzed this rule according to the criteria of the NEPA and 516 DM. This rule does not constitute a major Federal action significantly affecting the quality of the human environment. An environmental assessment is not required. This rule will have no impact regarding the criteria of the NEPA.

Unfunded Mandate Reform Act (UMRA) of 1995

This rule does not impose an unfunded mandate on State, local, or tribal governments or the private sector of more than $100 million per year. This rule does not create any kind of a mandate for State, local, or tribal governments or the private sector. A statement containing the information required by the UMRA, 2 U.S.C. 1501 et seq. is not required.

List of Subjects in 30 CFR Parts 250 and 251

Continental shelf, Freedom of information, Exploration, Development, Minerals Management Service, Oil, Gas, Sulphur, Reporting and recordkeeping requirements, Research, Public lands—mineral resources.

Dated: July 2, 2002.
Rebecca W. Watson,
Assistant Secretary, Land and Minerals Management.

For the reasons stated in the preamble, the Minerals Management Service (MMS) proposes to amend 30 CFR parts 250 and 251 as follows:

PART 250—OIL AND GAS AND SULPHUR OPERATIONS IN THE OUTER CONTINENTAL SHELF

1. The authority citation for part 250 continues to read as follows:

Authority: 43 U.S.C. 1331 et seq.

2. In § 250.196 the following changes are made:

A. Revise the section heading as set forth below.

B. Revise the introductory paragraph as set forth below.

C. Revise the introductory language in paragraph (b) as set forth below.

D. Remove line item (1) from the table in paragraph (b); redesignate line items (2) through (10) as (1) through (9) respectively; and revise redesignated line (9) to read as set forth below.

E. Add new paragraph (c) to read as set forth below.

§ 250.196 Data and information to be made available to the public or for limited inspection.

MMS will protect data and information that you submit under this part, and part 203 of this chapter, as described in this section. Paragraphs (a) and (b) of this section describe what data and information will be made available to the public without the consent of the lessee and under what circumstances and in what time period. Paragraph (c) of this section describes what data and information will be made available for limited inspection without the consent of the lessee and under what circumstances.

* * * * *

(b) MMS will release lease and permit data and information that you submit, but that are not normally submitted on MMS forms, according to the following table:

If | MMS will release | At this time | Special ­provisions
* * * * * * *
(9) Data and information acquired by a permit under part 251 are submitted by a lessee under 30 CFR part 203 or part 250 and retained by MMS | G&G data, analyzed geological information, processed and interpreted G&G information | Geological data and information: 10 years after MMS issues the permit; Geophysical data: 50 years after MMS issues the permit; Geophysical information: 25 years after MMS issues the permit | None.

(c) MMS may allow limited inspection, but only to persons with a direct interest in related MMS decisions and issues and who agree to confidentiality of G&G data and information submitted under this part or part 203 of this chapter and that MMS uses:

(i) To make unitization determinations on two or more leases;

(ii) To make competitive reservoir determinations;

(iii) To ensure proper plans of development for competitive reservoirs;

(iv) To promote operational safety;

(v) To protect the environment;

(vi) To make field determinations; or

(vii) To determine eligibility for royalty relief.

PART 251—GEOLOGICAL AND GEOPHYSICAL (G&G) EXPLORATIONS OF THE OUTER CONTINENTAL SHELF

3. The authority citation for part 251 continues to read as follows:

Authority: 43 U.S.C. 1331 et seq.

4. In § 251.14 the introductory language in paragraph (b) is revised, the table in paragraph (b)(1) is revised, and paragraph (b)(3) is added to read as follows:

§ 251.14 Protecting and disclosing data and information submitted to MMS under a permit.

* * * * *

(b) Timetable for release of G&G data and information that MMS acquires. MMS will release or disclose data and information that you or a third party submit and MMS retains in accordance with paragraphs (b)(1), (b)(2), and (b)(3) of this section.

(1) * * *

If you or a third party submit and MMS retains . . . | The Regional Director will release them to the public . . .
(i) Geological data and information | 10 years after MMS issues the permit.
(ii) Geophysical data | 50 years after MMS issues the permit.
(iii) Geophysical information | 25 years after MMS issues the permit.

* * * * *

(3) MMS may allow limited inspection, but only to persons with a direct interest in related MMS decisions and issues and who agree to confidentiality of G&G data and information submitted under this part and that MMS uses:

(i) To make unitization determinations on two or more leases;

(ii) To make competitive reservoir determinations;

(iii) To ensure proper plans of development for competitive reservoirs;

(iv) To promote operational safety;

(v) To protect the environment;

(vi) To make field determinations; or

(vii) To determine eligibility for royalty relief.

[FR Doc. 02-17880 Filed 7-16-02; 8:45 am]

BILLING CODE 4310-MR-P